DEPARTMENT OF STATE

[Public Notice 6595]

Shipping Coordinating Committee; Notice of Meeting

The Shipping Coordinating Committee (SHC) will conduct an open meeting at 9:30 a.m. on Wednesday, May 20, 2009, in Room 2415 of the United States Coast Guard Headquarters Building, 2100 Second Street, SW., Washington, DC 20593. The primary purpose of the meeting is to prepare for the eighty-sixth session of the International Maritime Organization (IMO) Marine Safety Committee (MSC) to be held at the IMO's London headquarters from May 27 to June 5, 2009. The primary matters to be considered at MSC 86 include:

—Decisions of other IMO bodies;

—Consideration and adoption of amendments to mandatory instruments;

—Measures to enhance maritime security;

—Goal-based new ship construction standards;

—Long range identification and tracking (LRIT)-related matters;

—Dangerous goods, solid cargoes and containers (report of the 13th session of the Sub-Committee);

—Radiocommunications and search and rescue (report of the 13th session of the Sub-Committee);

—Training and watchkeeping (report of the 40th session of the Sub-Committee);

—Fire protection (report of the 53rd session of the Sub-Committee);

—Bulk liquids and gases (urgent matters emanating from the 13th session of the Sub-Committee);

—Ship design and equipment (urgent matters emanating from the 52nd session of the Sub-Committee);

—Flag State implementation (urgent matters emanating from the 17th session of the Sub-Committee);

—Technical assistance sub-programme in maritime safety and security;

—Capacity-building for the implementation of new measures;

—Role of the human element;

—Formal safety assessment;

—Piracy and armed robbery against ships;

—General cargo ship safety;

—Implementation of instruments and related matters;

—Relations with other organizations;

—Application of the Committee's Guidelines;

—Work programme; and

—Election of MSC's Chairman and Vice-Chairman for 2010.

Members of the public may attend the May 20th meeting of the SHC up to the seating capacity of the room. Please note that due to security considerations, two valid, government-issued photo identification documents must be presented to gain entrance to the building. The Coast Guard Headquarters building is accessible by taxi and privately owned conveyance. Please note that parking in the vicinity of the building is extremely limited and that public transportation is not generally available.

To facilitate attendance to this meeting, those who plan to attend should contact the meeting coordinator, LCDR Jason Smith—not later than 4 p.m. on Friday, May 15, 2009—by e-mail at jason.e.smith2@uscg.mil; by phone at (202) 372-1376; by fax at (202) 372-1925; or by writing to Commandant (CG-5212), U.S. Coast Guard Headquarters, 2100 2nd Street, SW., Room 1308, Washington, DC 20593-0001. Additional information regarding this and other SHC public meetings and associated IMO meetings may be found at: http://www.uscg.mil/hq/cg5/imo.

Dated: April 23, 2009.
Mark Skolnicki,
Executive Secretary, Shipping Coordinating Committee, Department of State.

[FR Doc. E9-9969 Filed 4-29-09; 8:45 am]

BILLING CODE 4710-09-P